DEPARTMENT OF AGRICULTURE

Forest Service

Notice of Madison-Beaverhead Advisory Committee Meeting

AGENCY: Forest Service, USDA.

ACTION: Notice of meetings.

SUMMARY: Pursuant to the authorities in the Federal Advisory Committee Act (Pub. L. 92-463) and the Secure Rural Schools and Community Self-Determination Act of 2000 (Pub. L. 106-393), the Beaverhead-Deerlodge National Forest's Madison-Beaverhead Resource Advisory Committee will meet on Tuesday, March 22, 2005, from 10 a.m. until 4 p.m. in Alder, Montana, for a business meeting. The meeting is open to the public.

DATES: Tuesday, March 22, 2005.

ADDRESSES: The meeting will be held at the Fire Hall in Alder, Montana.

FOR FURTHER INFORMATION CONTACT: Thomas K. Reilly, Designated Forest Official (DFO), Forest Supervisor, Beaverhead-Deerlodge National Forest, at (406) 683-3973.

SUPPLEMENTARY INFORMATION: Agenda topics for these meetings include hearing and deciding on proposals for projects to fund under Title II of Pub. L. 106-393, hearing public comments, and other business. If the meeting location changes, notice will be posted in local newspapers, including the Dillon Tribune and The Montana Standard.

Dated: February 24, 2005.
Thomas K. Reilly,
Designated Federal Official, Forest Supervisor.

[FR Doc. 05-4071 Filed 3-2-05; 8:45 am]

BILLING CODE 3410-11-M